DEPARTMENT OF TRANSPORTATION

Federal Aviation Administration

14 CFR Part 39

[Docket No. 2003-NM-222-AD; Amendment 39-13621; AD 2004-09-31]

RIN 2120-AA64

Airworthiness Directives; Bombardier Model DHC-8-101, -102, -103, -106, -201, -202, -301, -311, and -315 Airplanes on Which Engine Oil Coolers Have Been Installed Per LORI, Inc., Supplemental Type Certificate (STC) SA8937SW

AGENCY: Federal Aviation Administration, DOT.

ACTION: Final rule.

SUMMARY: This amendment adopts a new airworthiness directive (AD), applicable to certain Bombardier Model DHC-8-101, -102, -103, -106, -201, -202, -301, -311, and -315 airplanes on which engine oil coolers have been installed per LORI, Inc., STC SA8937SW. This amendment requires an inspection or a review of the airplane maintenance records to determine the part number and serial number of each engine oil cooler, and replacement of certain engine oil coolers with reworked engine oil coolers. This action is necessary to prevent oil leakage from the engine oil coolers, consequent in-flight engine shutdown due to low oil pressure, and reduced controllability of the airplane. This action is intended to address the identified unsafe condition.

DATES: Effective June 15, 2004.

The incorporation by reference of a certain publication listed in the regulations is approved by the Director of the Federal Register as of June 15, 2004.

ADDRESSES: The service information referenced in this AD may be obtained from Honeywell Engines, Systems & Services, LORI, Inc., 6930 N. Lakewood, Tulsa, Oklahoma 74117. This information may be examined at the FAA, Transport Airplane Directorate, 1601 Lind Avenue, SW., Renton, Washington; at the FAA, Rotorcraft Directorate, 2601 Meacham Boulevard, Fort Worth, Texas; or at the National Archives and Records Administration (NARA). For information on the availability of this material at NARA, call (202) 741-6030, or go to: http://www.archives.gov/federal_register/code_of_federal_regulations/ibr_locations.html.

FOR FURTHER INFORMATION CONTACT: Jim Rankin, Aerospace Engineer, Special Certification Office, ASW-190, 2601 Meacham Boulevard, Fort Worth, Texas 76193; telephone (817) 222-5138; fax (817) 222-5785.

SUPPLEMENTARY INFORMATION: A proposal to amend part 39 of the Federal Aviation Regulations (14 CFR part 39) to include an airworthiness directive (AD) that is applicable to certain Bombardier Model DHC-8-101, -102, -103, -106, -201, -202, -301, -311, and -315 airplanes on which engine oil coolers have been installed per LORI, Inc., STC SA8937SW, was published in the Federal Register on January 26, 2004 (69 FR 3533). That action proposed to require an inspection or a review of the airplane maintenance records to determine the part number and serial number of each engine oil cooler, and replacement of certain engine oil coolers with reworked engine oil coolers.

Comments

Interested persons have been afforded an opportunity to participate in the making of this amendment. Due consideration has been given to the one comment received.

Request To Revise “AD Title''

The commenter, Transport Canada Civil Aviation (TCCA), which is the airworthiness authority for Canada, requests changing the “AD title” of the proposed AD from “Bombardier, Inc. (Formerly de Havilland, Inc.)” to “LORI, Inc.,” to clarify that the proposed AD is written against supplemental type certificate (STC) SA8937SW, issued to LORI, Inc., and is not written against Bombardier airplanes.

During a teleconference between the commenter and the FAA on February 6, 2004, the commenter also expressed concern regarding the applicability of the proposed AD. The commenter stated that the proposed AD, as written, would compel the issuance of a Canadian airworthiness directive because the applicability of our proposed AD identifies an airplane with a Canadian State of Design. The commenter mentioned that the applicability section may be misleading because the intent of the proposed AD is to address an unsafe condition created by the installation of the STC; the unsafe condition is not directly related to the Bombardier Model DHC-8 airplanes. The United States is the State of Design for the STC and Canada is the State of Design for the Bombardier airplanes.

We concur with the commenter's statement that the intent of this final rule is to address an unsafe condition created by STC SA8937SW, issued to LORI, Inc. We do not concur with the commenter's request to change the product identification line (“AD title”) of this final rule from “Bombardier, Inc. (Formerly de Havilland, Inc.)” to “LORI, Inc.” The FAA's practice regarding unsafe conditions that result from the installation of a particular component in only one particular make and model of airplane, in this case Bombardier Model DHC-8 airplanes, is to issue an AD that applies to the affected airplane model. In doing so, U.S. operators of those airplanes will be notified directly of the unsafe condition and the action required to correct it. While we assume that operators can identify the airplane models they operate, they may not be aware of specific items installed on those airplanes. Therefore, specifying the airplane models in the applicability as the subject of the AD prevents an operator's “unknowing failure to comply” with the AD.

We also recognize that an unsafe condition may exist in an item that is installed in many different airplane models. In that case, we consider it impractical to issue an AD against each airplane model; in fact, many times, the exact models and numbers of airplanes on which the item is installed may be unknown. Therefore, in those situations, we would issue an AD that would apply to the item and would indicate that the item is known to be “installed on, but not limited to,” various airplane models.

During the teleconference on February 6, 2004, we mentioned that the proposed AD, specifically the applicability section, was written per our normal practice. We also advised TCCA that the issuance of the proposed AD would not compel them to issue a Canadian airworthiness directive, but that they may choose to issue an airworthiness directive at their own discretion. We notified TCCA that we will distribute this final rule to other civil airworthiness authorities, which eliminates the need for issuance of a corresponding Canadian airworthiness directive. No change is made to this final rule regarding this issue.

Conclusion

After careful review of the available data, including the comment noted above, the FAA has determined that air safety and the public interest require the adoption of the rule as proposed.

Cost Impact

The FAA estimates that 19 airplanes of U.S. registry will be affected by this AD, that it will take approximately 1 work hour per airplane to accomplish the required inspection or review of the airplane maintenance records, and that the average labor rate is $65 per work hour. Based on these figures, the cost impact of the AD on U.S. operators is estimated to be $1,235, or $65 per airplane.

Should an operator have to replace an engine oil cooler, it will take approximately 3 work hours at an average labor rate of $65 per work hour. Required parts will be provided at no charge by the part manufacturer. Based on these figures, the cost impact of the replacement on U.S. operators is estimated to be $195 per engine oil cooler.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-31 Bombardier, Inc. (Formerly de Havilland, Inc.): Amendment 39-13621. Docket 2003-NM-222-AD.

Applicability: Model DHC-8-101, -102, -103, -106, -201, -202, -301, -311, and -315 airplanes on which engine oil coolers have been installed per LORI, Inc., Supplemental Type Certificate SA8937SW; certificated in any category.

Compliance: Required as indicated, unless accomplished previously.

To prevent oil leakage from the engine oil coolers, consequent in-flight engine shutdown due to low oil pressure, and reduced controllability of the airplane, accomplish the following:

Identification of Part Number and Serial Number and Corrective Actions

(a) Within 7 days after the effective date of this AD, do a review of airplane maintenance records, or a detailed inspection in accordance with the Accomplishment Instructions of Honeywell Service Bulletin 28E99-79-2036, dated September 23, 2002, to positively determine the part numbers (P/N) and serial numbers (S/N) of the engine oil coolers.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If neither engine oil cooler has a S/N as listed in Table 1 of the service bulletin: No further action is required by this paragraph.

(2) If only one engine oil cooler has a S/N as listed in Table 1 of the service bulletin: Within 90 days after the effective date of this AD, remove the affected part and install a part that has been reworked per the service bulletin.

(3) If both engine oil coolers have S/Ns as listed in Table 1 of the service bulletin: Before further flight, remove at least one of the affected parts and install a part that has been reworked per the service bulletin. If only one affected part is replaced with a part that has been reworked, within 90 days after the effective date of this AD, remove the remaining affected part and install a part that has been reworked per the service bulletin.

Parts Installation

(b) As of the effective date of this AD, no person shall install an engine oil cooler having a S/N as listed in Table 1 of Honeywell Service Bulletin 28E99-79-2036, dated September 23, 2002.

Special Flight Permit

(c) Special flight permits with a limitation may be issued in accordance with sections 21.197 and 21.199 of the Federal Aviation Regulations (14 CFR 21.197 and 21.199) to operate the airplane to a location where the requirements of this AD can be accomplished. The special flight permits would have a limitation of one affected engine oil cooler per airplane.

Alternative Methods of Compliance

(d) In accordance with 14 CFR 39.19, the Manager, Special Certification Office, Rotorcraft Directorate, FAA, is authorized to approve alternative methods of compliance for this AD.

Incorporation by Reference

(e) Unless otherwise specified in this AD, the actions shall be done in accordance with Honeywell Service Bulletin 28E99-79-2036, dated September 23, 2002. This incorporation by reference was approved by the Director of the Federal Register in accordance with 5 U.S.C. 552(a) and 1 CFR part 51. Copies may be obtained from Honeywell Engines, Systems & Services, LORI, Inc., 6930 N. Lakewood, Tulsa, Oklahoma 74117. Copies may be inspected at the FAA, Transport Airplane Directorate, 1601 Lind Avenue, SW., Renton, Washington; at the FAA, Rotorcraft Directorate, 2601 Meacham Boulevard, Fort Worth, Texas; or at the National Archives and Records Administration (NARA). For information on the availability of this material at NARA, call (202) 741-6030, or go to: http://www.archives.gov/federal_register/code_of_federal_regulations/ibr_locations.html.

Effective Date

(f) This amendment becomes effective on June 15, 2004.

Issued in Renton, Washington, on April 28, 2004.
Kevin M. Mullin,
Acting Manager, Transport Airplane Directorate, Aircraft Certification Service.

[FR Doc. 04-10252 Filed 5-10-04; 8:45 am]

BILLING CODE 4910-13-P